DEPARTMENT OF THE INTERIOR

Bureau of Land Management

[OR-958-6333-ET; GP0-0222; WAOR-55695]

Proposed Withdrawal and Opportunity for Public Meeting; Washington

AGENCY: Bureau of Land Management, Interior.

ACTION: Notice.

SUMMARY: The U.S. Department of Agriculture, Forest Service, proposes to withdraw approximately 765 acres of National Forest System lands, lying within the Wenatchee National Forest, to protect the investment of federal funds, and the lands being rehabilitated as part of the Holden Mine Rehabilitation Project. This notice closes the lands for up to 2 years from location and entry under the United States mining laws.

EFFECTIVE DATE: Comments and requests for a public meeting must be received by August 30, 2000.

ADDRESSES: Comments and meetings requests should be sent to the Forest Supervisor, Wenatchee National Forest, 215 Melody Lane, Wenatchee, Washington 98801.

FOR FURTHER INFORMATION CONTACT: Norman Day, Holden Mine Project Manager, Wenatchee National Forest, 509-662-4304, or Charles R. Roy, BLM Oregon/Washington State Office, 503-952-6189.

SUPPLEMENTARY INFORMATION: On April 17, 2000, the Forest Service filed an application to withdraw the following described National Forest System lands from location and entry under the United States mining laws (30 U.S.C. Ch. 2 (1994)), but not the mineral leasing laws, subject to valid existing rights:

Willamette Meridian

Wenatchee National Forest

T. 31 N., R. 17 E.,

Sec. 7, S½N½, S½, excluding 195 acres of patented lands in Mineral Surveys numbered 713-A, 1208, 1213-B, 1221, 1232, and 1239;

Sec. 8, S½N½S½.

The areas described aggregate approximately 765 acres in Chelan County.

The purpose of the proposed withdrawal is to protect the investment of federal funds and the lands being rehabilitated as part the Holden Mine Rehabilitation Project.

For a period of 90 days from the date of publication of this notice, all persons who wish to submit comments, suggestions, or objections in connection with the proposed withdrawal may present their views in writing to the Forest Supervisor at the address indicated above.

Notice is hereby given that an opportunity for a public meeting is afforded in connection with the proposed withdrawal. All interested parties who desire a public meeting for the purpose of being heard on the proposed withdrawal must submit a written request to the Forest Supervisor at the address indicated above within 90 days from the date of publication of this notice. Upon determination by the authorized officer that a public meeting will be held, a notice of the time and place will be published in the Federal Register at least 30 days before the scheduled date of the meeting.

The withdrawal application will be processed in accordance with the regulations set forth in 43 CFR 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

Dated: May 24, 2000.
Sherrie L. Reid,
Acting Chief, Branch of Realty and Records Services.

[FR Doc. 00-13574 Filed 5-30-00; 8:45 am]

BILLING CODE 4310-33-P